NUCLEAR REGULATORY COMMISSION

Termination of Uranium Milling Licenses in Agreement States; Opportunity to Comment on Draft Revision of NRC Procedure

AGENCY: Nuclear Regulatory Commission.

ACTION: Request for comment.

SUMMARY: The Nuclear Regulatory Commission (NRC) is announcing the availability of a draft revision of the Office of State and Tribal Programs (STP) Procedure SA-900: Termination of Uranium Milling Licenses in Agreement States for review and comment. The procedure describes the NRC review process for making determinations that all applicable standards and requirements have been met before Agreement State uranium milling license termination. Stakeholder's comments are requested on the draft revised procedure before the completion of the final procedure.

DATES: The comment period expires September 24, 2001. Comments received after this date will be considered if it is practical to do so, but the Commission is able to ensure consideration only for comments received on or before this date.

ADDRESSES: Comments may be submitted either electronically or via U.S. mail. Submit written comments to: Chief, Rules and Directives Branch, Mail Stop T6-D59, U.S. Nuclear Regulatory Commission, Washington, DC 20555-0001. Comments may be submitted by electronic mail to mtl@NRC.GOV.

The procedure is available at the STP Web site at “U Mill License Termination,” http://www.hsrd.ornl.gov/nrc/Umill.htm on the tool bar. A single paper copy of the procedure may be obtained from the For Further Information Contact.

FOR FURTHER INFORMATION CONTACT: Kevin Hsueh, Mail Stop: O-3C10, Office of State and Tribal Programs, U.S. Nuclear Regulatory Commission, Washington, DC 20555-0001, telephone 301-415-2598.

SUPPLEMENTARY INFORMATION: On March 29, 2001 (66 FR 17206), the NRC published a document in the Federal Register (FR) announcing the formation of a working group composed of representatives from the NRC and Agreement States. The working group was tasked to identify areas that need improvements in the NRC review process and propose a draft revised procedure that addresses issues identified by the working group and stakeholders.

The working group, consisting of five representatives from the States, three NRC representatives and an NRC resource representative, began work in April 2001. Over the past four months, the working group has held three teleconference calls and one face-to-face meeting with stakeholders. Comments and input received from the working group, stakeholders and NRC staff have been considered and reflected in the procedure.

Before finalizing its task, the working group would like to make the procedure available to NRC offices, Agreement States and stakeholders for review and comment. The procedure is available at the STP Web site at “U Mill License Termination,” http://www.hsrd.ornl.gov/nrc/Umill.htm on the tool bar. The last working group teleconference call is scheduled in late September. Comments received by the working group will be reviewed and discussed, and incorporated into the procedure, if accepted. The working group is scheduled to complete the project by October 2001. The final STP SA-900 procedure is expected to be issued in November 2001.

Dated at Rockville, Maryland this 17th day of August, 2001.
For the Nuclear Regulatory Commission.
Paul H. Lohaus,
Director, Office of State and Tribal Programs.

[FR Doc. 01-21289 Filed 8-22-01; 8:45 am]

BILLING CODE 7590-01-P